NUCLEAR REGULATORY COMMISSION

[Docket No. 70-3103]

Louisiana Energy Services Gas Centrifuge Enrichment Facility

AGENCY: Nuclear Regulatory Commission.

ACTION: Extension of opportunity to provide public comments.

SUMMARY: In a Federal Register Notice (67 FR 61932), dated October 2, 2002, the U.S. Nuclear Regulatory Commission (NRC) requested comments from members of the public concerning a series of “white papers” presented to the NRC by the Louisiana Energy Services (LES) addressing licensing issues for a gas centrifuge uranium enrichment facility to be located in the area of Hartsville, Trousdale County, Tennessee. The October 2, 2002, Federal Register Notice provided a 30-day comment period. As a result of comments made at an October 14, 2002, public information forum sponsored by Trousdale County, Tennessee, the Commission is extending the comment period to November 13, 2002.

DATES: Comments are due by November 13, 2002. Comments received after this date will be considered if it is practical to do so, but the NRC is able to ensure consideration only for comments received on or before this date.

FOR FURTHER INFORMATION CONTACT: Mr. Timothy C. Johnson, Project Manager, Special Projects and Inspection Branch, Division of Fuel Cycle Safety and Safeguards, Office of Nuclear Material Safety and Safeguards, U.S. Nuclear Regulatory Commission, Mail Stop T-8A33, Washington, DC 20555. Telephone (301) 415-7299, e-mail TCJ@nrc.gov.

SUPPLEMENTARY INFORMATION: In a Federal Register Notice (67 FR 61932), dated October 2, 2002, NRC published an opportunity for the public to provide comments on six pre-application policy issue “white papers.” LES submitted these white papers to the Commission as LES believes that Commission direction on these issues will be essential to the conduct of an efficient regulatory review process. The white papers addressed the following subjects:

1. Analysis of need for the facility and the no-action alternative under the National Environmental Policy Act;

2. Environmental justice;

3. Financial qualifications;

4. Antitrust review;

5. Foreign ownership;

6. Disposition of depleted uranium tails.

A public meeting was held on April 30, 2002, to discuss these papers. Comments on the papers were submitted by two attendees at the meeting: the Department of Energy (DOE) and the United States Enrichment Corporation (USEC). The NRC prepared a meeting summary, dated May 28, 2002, which is publicly available. At the time of the April meeting, LES had not chosen a site for the facility.

On October 14, 2002, at a public information forum sponsored by Trousdale County, Tennessee, several members of the public requested a 90-day extension of the comment period because the opportunity to provide comments was not locally advertised. On October 16, 2002, LES requested that NRC extend the comment period to end 30 days after the public information forum on October 14, 2002. After considering these requests, the Commission is extending the comment period. NRC considers that the extension provides sufficient time for members of the public to review the LES “white papers” and provide comment.

The April 24, 2002, LES “white papers”; the May 28, 2002, NRC Meeting Summary; DOE's July 25, 2002, comments; and USEC's June 19, 2002, comments are accessible electronically from the NRC Agency wide Documents Access and Management System (ADAMS) Public Electronic Reading Room on the internet at the NRC Web site, http://www.nrc.gov/readingrm/adams.html. The ADAMS Accession Numbers for these documents are: ML022350051, ML021480298, ML022350130, and ML021770197, respectively. These documents may also be examined and/or copied for a fee at NRC's Public Document Room located at One White Flint North, 11555 Rockville Pike (first floor), Rockville, Maryland.

Members of the public may provide comments by November 13, 2002. The comments may be provided to Michael Lesar, Chief, Rules Review and Directives Branch, Division of Administration Services, Office of Administration, U.S. Nuclear Regulatory Commission, Washington, DC 20555.

Dated at Rockville, Maryland, this 18th day October, 2002.
For the U.S. Nuclear Regulatory Commission.
Melvyn N. Leach,
Chief, Special Projects and Inspection Branch, Division of Fuel Cycle Safety and Safeguards, Office of Nuclear Material Safety and Safeguards.

[FR Doc. 02-27242 Filed 10-24-02; 8:45 am]

BILLING CODE 7590-01-P